DEPARTMENT OF THE INTERIOR

National Park Service

[NPS-WASO-NAGPRA-NPS0034976; PPWOCRADN0-PCU00RP14.R50000]

Notice of Inventory Completion: Robert S. Peabody Institute of Archaeology, Andover MA

AGENCY: National Park Service, Interior.

ACTION: Notice.

SUMMARY: In accordance with the Native American Graves Protection and Repatriation Act (NAGPRA), the Robert S. Peabody Institute of Archaeology (RSPI) has completed an inventory of human remains and associated funerary objects and has determined that there is a cultural affiliation between the human remains and associated funerary objects and Indian Tribes or Native Hawaiian organizations in this notice. The human remains and associated funerary objects were removed from Jefferson County, MS.

DATES: Repatriation of the human remains and associated funerary objects in this notice may occur on or after January 9, 2023.

ADDRESSES: Dr. Ryan J. Wheeler, Robert S. Peabody Institute of Archaeology, Phillips Academy, 180 Main Street, Andover, MA 01810, telephone (978) 749-4490, email rwheeler@andover.edu.

SUPPLEMENTARY INFORMATION: This notice is published as part of the National Park Service's administrative responsibilities under NAGPRA. The determinations in this notice are the sole responsibility of the RSPI. The National Park Service is not responsible for the determinations in this notice. Additional information on the determinations in this notice, including the results of consultation, can be found in the inventory or related records held by the RSPI.

Description

In February of 1924, human remains representing, at minimum, two individuals were removed from Jefferson County, MS. Warren K. Moorehead, working under the auspices of the Department of Archaeology at Phillips Academy (now the RSPI), removed these human remains from Mounds C and/or D at Ferguson Mounds, 22JE500, also known as Feltus Mounds and the Judge Truly site. (In March of 1924, Moorehead transferred additional human remains and funerary objects from this site to Aleš Hrdlička at what is now the Smithsonian Institution's National Museum of Natural History.) The Ferguson Mounds date to the Coles Creek period (700-1,100 CE). The fragmentary human remains belong to two adult males. No known individuals were identified. The 573 associated funerary objects are 123 bifaces, seven faunal remains, one abrading stone, five chunks of ash, one bag of ashy bone matrix, 27 celts, nine fragments of daub, one effigy figurine fragment, one hammerstone, 110 points, 20 fragments of shatter, eight edge tools, 11 knives, 10 flakes, five perforators, one scraper, one axe, five unfinished objects, nine fragments of debitage, 213 ceramic sherds, one pigment stone, one pipe fragment, and three plummets.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, biological, historical, linguistic, other relevant information, and expert opinion.

Determinations

Pursuant to NAGPRA and its implementing regulations, and after consultation with the appropriate Indian Tribes and Native Hawaiian organizations, the RSPI has determined that:

• The human remains described in this notice represent the physical remains of two individuals of Native American ancestry.

• The 573 objects described in this notice are reasonably believed to have been placed with or near individual human remains at the time of death or later as part of the death rite or ceremony.

• There is a relationship of shared group identity that can be reasonably traced between the human remains and associated funerary objects described in this notice and The Choctaw Nation of Oklahoma and The Muscogee (Creek) Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 9, 2023. If competing requests for repatriation are received, the RSPI must determine the most appropriate requestor prior to repatriation. Requests for joint repatriation of the human remains and associated funerary objects are considered a single request and not competing requests. The RSPI is responsible for sending a copy of this notice to the Indian Tribes identified in this notice.

Authority: Native American Graves Protection and Repatriation Act, 25 U.S.C. 3003, and the implementing regulations, 43 CFR 10.9, 10.10, and 10.14.

Dated: November 30, 2022.
Melanie O'Brien,
Manager, National NAGPRA Program.

[FR Doc. 2022-26797 Filed 12-8-22; 8:45 am]

BILLING CODE 4312-52-P